DEPARTMENT OF AGRICULTURE

Rural Business-Cooperative Service

[Docket # RBS-21-BUSINESS-0014]

Notice of Reserved Funding for the Rural Business Development Grant (RBDG) Program for Fiscal Year (FY) 2021

AGENCY: Rural Business-Cooperative Service, USDA (Rural Development).

ACTION: Notice of funding availability.

SUMMARY: The Rural-Business Cooperative Service (the Agency) announces the availability of funds in the total amount of $2 million reserved for projects located in rural coastal communities, with priority given to National Scenic Areas that were devastated by wildfires that are in need of economic development assistance, to support innovation and job growth. All applicants are responsible for any expenses incurred in developing their applications.

DATES: Applications must be submitted to the USDA Rural Development State Office in the state where the project is located. For projects involving multiple states, the application must be filed in the Rural Development State Office where the Applicant is located. Applications may be submitted in paper or electronic format to the appropriate Rural Development State Office and must be received by 4:30 p.m. local time July 6, 2021. Applicants are encouraged to contact their respective Rural Development State Office for an email contact to submit an electronic application prior to the submission deadline date. A list of the USDA Rural Development State Offices can be found at: https://www.rd.usda.gov/page/state-offices.

ADDRESSES: Applications must be submitted to the USDA Rural Development State Office for the State where the Project is located. For Projects involving multiple states, the application must be filed in the Rural Development State Office where the Applicant is located. Applications may be submitted in paper or electronic format to the appropriate Rural Development State Office and must be received by 4:30 p.m. local time on the deadline date. Applicants are encouraged to contact their respective Rural Development State Office for an email contact to submit an electronic application prior to the submission deadline date. A list of the USDA Rural Development State Office contacts can be found at: https://www.rd.usda.gov/page/state-offices.

FOR FURTHER INFORMATION CONTACT: David Chestnut, Branch Chief, Program Management Division, at (202) 692-5233, or david.chestnut@usda.gov, Rural Business-Cooperative Service, U.S. Department of Agriculture, 1400 Independence Avenue SW, MS 3226, Room 5160-South, Washington, DC 20250-3226, or call (202) 720-1400.

SUPPLEMENTARY INFORMATION: The Consolidated Appropriations Act, 2021, Div. A, Title III—Agriculture, Rural Development, Food and Drug Administration, and Related Agencies Appropriations Act, 2021 designated funding not to exceed $2 million for Rural Business Development Grants in rural coastal communities, with priority given to National Scenic Areas that were devastated by wildfires that are in need of economic development assistance, to support innovation and job growth. This designated funding is in addition to Fiscal Year 2021 funds allocated for Rural Business Development Grant Projects (86 FR 8160) and will be competed separately. With this Notice, Rural Development is announcing the availability of additional RBDG funds for projects located in rural coastal communities.

All applicants and projects for this funding must meet the applicant and use of proceeds requirements of the Rural Business Development Grant program as stated in 7 CFR part 4280, subpart E and requirements of this notice. Rural coastal community for the purposes of this notice is defined as an area or community bordering a river or ocean coastline, where the land and water surfaces meet. The applicant must provide a map indicating the location of the proposed project and describe how their project will support innovation and job creation in the coastal community. Priority is given to National Scenic Areas that have been devastated by wildfires. A National Scenic Area is a federally designated area of outstanding natural and scenic value that receives a level of environmental protection. All eligible applications will compete nationally, ranked by highest to lowest score until funds are depleted. All scoring will be based on the RBDG scoring criteria defined in 7 CFR 4280.435 with exception of the awarding of discretionary points to the project as stated in this notice.

Overview

Solicitation Opportunity Type: Rural Business Development Grant.

Announcement Type: Initial Solicitation Announcement.

Catalog of Federal Domestic Assistance Number: 10.351.

Dates: The deadline for completed applications to be received in the USDA Rural Development State Office has been established as 4:30 p.m. local time July 6, 2021. A list of the USDA Rural Development State Offices can be found at: https://www.rd.usda.gov/page/state-offices.

A. Program Description

1. Purpose of the Program. The purpose of the program is to promote economic development and job creation projects through the awarding of grant funds to eligible entities. Applications that will use grant funds for either business opportunity or business enterprise projects, as defined, will compete equally for the available funds. Business opportunity projects may be used to establish business support centers or provide funds for job training and leadership development in rural areas. Business opportunity projects must be consistent with any local and area-wide strategic plans for community and economic development, coordinated with other economic development activities in the project area, and consistent with any Rural Development State or Tribal Strategic Plan. Business enterprise projects must be used to finance or develop small and emerging businesses in rural areas. Enterprise funded project purposes must be in compliance with 7 CFR 4280.417(a)(2) which includes the acquisition and development of land, access streets and roads, and the conversion or modernization of buildings, machinery, and equipment.

2. Statutory and Regulatory Authority. This program is authorized under 7 U.S.C. 1932(c) and implemented by 7 CFR part 4280, subpart E. Assistance provided under this subpart will be made to eligible entities and will be used for funding various business opportunity and business enterprise projects. Funds under this notice may only serve projects located in rural coastal areas.

Awards will be made on a competitive basis using specific selection criteria contained in 7 CFR part 4280, subpart E. Information required to be in the application package includes Standard Form (SF) 424, “Application for Federal Assistance;” a copy of applicants organizational documents; a proposed scope of work; Resolution of the Board of Directors; SF LLL, “Restrictions on Lobbying;” RD 400-1, “Equal Opportunity Agreement;” Assurance Statement for the Uniform Act; paperwork required in accordance with 7 CFR part 1970, “Environmental Policies and 7 CFR 4280.427 Application.

3. Definition of Terms. The definitions applicable to this notice are published at 7 CFR 4280.403 and as noted:

Rural coastal community for the purposes of this notice is defined as an area or community bordering a river or ocean coastline.

A National Scenic Area is a federally designated area of outstanding natural and scenic value that receives a level of environmental protection.

4. Application Awards. The Agency will review, evaluate, and score applications received in response to this notice based on the provisions found in 7 CFR part 4280, subpart E, and as indicated in this notice. The Agency advises all interested parties that the applicant bears the burden in preparing and submitting an application in response to this notice.

B. Federal Award Information

Type of Awards: Grants.

Fiscal Year Funds: FY 2021.

Available Funds: $2,000,000.

Anticipated Award Date: September 30, 2021.

Performance Period: October 1, 2021, through September 30, 2023.

Renewal or Supplemental Awards: None.

C. Eligibility Information

1. Eligible Applicants.

Grants may be made to a Public Body/Government Entity; an Indian Tribe; or a nonprofit entity primarily serving rural areas. In accordance with 7 CFR 4280.416(d), applicants that are not delinquent on any Federal debt or not otherwise disqualified from participation in these Programs are eligible to apply. The Agency will check the System for Award Management (SAM) to determine if the applicant has been debarred or suspended. Applicants must be registered in the System for Award Management (SAM) prior to submitting an application and maintain an active SAM registration with current information at all times during which it has an active Federal award or an application under consideration by the Agency. Applicants must ensure that they complete the Financial Assistance General Certifications and Representations in SAM. All other restrictions in this notice will apply.

The Agency requires information to make an eligibility determination through applications that must include, but are not limited to, the following:

(a) An original and one copy of SF 424, “Application for Federal Assistance (For Non-construction).”

(b) Copies of applicant's organizational documents showing the applicant's legal existence and authority to perform the activities under the grant.

(c) A proposed scope of work, including a description of the proposed project. Grant funds may be used for projects identified in § 4280.417(a) as either a business opportunity type grant or a business enterprise type grant. The scope of work must include details of the proposed activities to be accomplished and timeframes for completion of each task, the number of months duration of the project, and the estimated time it will take from grant approval to beginning of project implementation. In accordance with 7 CFR 4280.421, a project must reasonably be expected to be completed within 1 full year after it has begun.

(d) A written narrative that includes, at a minimum, the following items:

(1) An explanation of why the project is needed, the benefits of the proposed project, and how the project meets the grant eligible purposes;

(2) Area to be served and how it meets the criteria of a rural coastal community, identifying each governmental unit, i.e., town, county, Indian reservation, etc., to be affected by the project;

(3) Description of how the project will coordinate Economic Development activities with other Economic Development activities within the project area;

(4) Business to be assisted, if appropriate; and Economic Development to be accomplished;

(5) An explanation of how the proposed project will result in newly created, increased or supported jobs in the area and the number of projected new and supported jobs within the next 3 years;

(6) A description of the applicant's demonstrated capability and experience in providing the proposed project assistance or similar Economic Development activities, including experience of key staff members and persons who will be providing the proposed project activities and managing the project;

(7) The method and rationale used to select the areas and businesses that will receive the service;

(8) A brief description of how the work will be performed including whether organizational staff or consultants or contractors will be used;

(9) Please note that no assistance or funding can be provided to hemp producers or processors unless they have a valid license issued from an approved State, Tribal or Federal plan as per Section 10113 of the Agriculture Improvement Act of 2018, Public Law 115-334, and note that verification of valid hemp licenses will occur at the time of award; and

(10) Other information the Agency may request to assist in making a grant award determination.

(e) The latest 3 years of financial information to show the applicant's financial capacity to carry out the proposed work. If the applicant is less than 3 years old, at a minimum, the information should include all balance sheet(s), income statement(s) and cash flow statement(s). A current audited report is required if available.

(f) Intergovernmental review comments from the State Single Point of Contact, or evidence that the State has elected not to review the program under Executive Order 12372. Applications from federally recognized tribes are exempt from this requirement.

(g) Documentation regarding the availability and amount of other funds to be used in conjunction with the funds from the RBDG. If there is not a firm commitment in writing of the other funding, it may not be considered for leveraging and scoring purposes and the project must be determined as feasible without those funds.

(h) A budget which includes salaries, fringe benefits, consultant costs, indirect costs, and other appropriate direct costs for the project.

(i) RBDG construction project grants must conform with 7 CFR part 1924, subpart A, for residential construction requirements, 7 CFR part 1942 subpart A, for commercial construction requirements and the 7 CFR 1970 environmental requirements.

3. General Processing and Scoring Provisions

The Agency will review each application for assistance in accordance with the priorities established in § 4280.435. The Agency will assign each application a priority rating and will select applications for funding based on the priority ratings and the total funds available to the program.

(a) The Agency will score each application based on the information contained in the application and its supporting information. All applications submitted for funding must contain sufficient information to permit the Agency to complete a thorough priority rating. Agency employees may not consider any information that is not provided by the applicant in writing for scoring purposes. Applications will not be considered for funding if they do not provide sufficient information to determine eligibility or are missing required elements. Total possible points for the scoring criteria is 240 plus discretionary points that may be awarded by the Administrator with justification. Points will be awarded to an eligible application as follows:

(1) Leveraging. If the grant will fund a critical element of a larger program of Economic Development, without which the overall program either could not proceed or would be far less effective, or if the program to be assisted by the grant will also be partially funded from other sources, points will be awarded if Rural Development's funding is: (i) Less than 20 percent of the project costs—30 points; (ii) between 20 percent and up to 50 percent of the project—20 points; (iii) between 51 percent and up to 75 percent of the project—10 points.

(2) Demographics. Points will be awarded for each of the following criteria met by the community or communities that will receive the benefit of the grant, up to a total of 40 points from all categories: (i) Communities experiencing trauma due to a major natural disaster that occurred not more than 3 years prior to the filing of the application for assistance will be awarded 15 points; (ii) Communities that have suffered a loss of 20 percent or more in their total jobs caused by the closure of a military facility or other employer within the last 3 years will be awarded 15 points; (iii) Communities that have experienced long-term poverty as demonstrated by being a former Rural Empowerment Zone, Rural Economic Area Partnership Zone, Rural Enterprise Community, Champion Community, or a persistent poverty county as determined by USDA's Economic Research Service will receive 10 points; and (iv) If the community has experienced long-term population decline as demonstrated by the latest three decennial censuses, 10 points will be awarded.

(3) Population. Points will be awarded if the proposed project(s) will be located in a community of: (i) Under 5,000 population—15 points; (ii) Between 5,000 and less than 15,000 population—10 points; or (iii) Between 15,000 and 25,000 population—5 points.

(4) Unemployment. If the proposed project(s) will be located in areas where the unemployment rate: (i) Exceeds the State rate by 25 percent or more—20 points will be awarded; (ii) exceeds the State rate by less than 25 percent—10 points will be awarded; or (iii) is equal to or less than the State rate—0 points will be awarded.

(5) Median household income. If the proposed project(s) will be located in areas where Median Household Income (MHI) as prescribed by section 673(2) of the Community Services Block Grant Act for a family of 4 for the State is: (i) Less than the poverty line—25 points will be awarded; (ii) More than the poverty line but less than 65 percent of State MHI—15 points will be awarded; (iii) Between 65 and 85 percent of the State MHI—10 points will be awarded; or (iv) If the area has greater than 85 percent of the State MHI—0 points will be awarded.

(6) Experience. If the applicant provides evidence of successful experience in the type of activity proposed based on its current employees' resumes demonstrating: (i) 10 or more years of experience—30 points will be awarded; (ii) At least 5 but less than 10 years of experience—20 points will be awarded; (iii) At least 3 years but less than 5 years of experience—10 points will be awarded; or (iv) At least 1 but less than 3 years of experience—5 points will be awarded.

(7) Small business start-up or expansion. If the Applicant has evidence that small business development will be supported by startup or expansion as a result of the activities to be carried out under the grant by written evidence provided to the Agency from a small, or a small and emerging business that includes the number of jobs that will be supported and created, 5 points will be awarded for each letter up to a total of 25 points. Generic or duplicated letters are not acceptable; letters must address the specific business producing the letter, the connection to the project activities and further provide information relative to jobs to meet the criteria.

(8) Jobs created or supported. Points will be awarded if the anticipated development, expansion, or furtherance of business enterprises as a result of the proposed project will create and/or support existing jobs associated with the affected businesses. The number of jobs must be evidenced by a written commitment from the business(es) to be assisted. Points will be awarded based on the ratio of jobs to be supported by the amount of grant funds. For projects supporting: (i) One job for less than $5,000 of grant funds—25 points will be awarded; (ii) one job for $5,000 but less than $10,000 of grant funds—20 points; (iii) one job for $10,000 but less than $15,000—15 points; (iv) one job for $15,000 but less than $20,000—10 points; or (v) one job for $20,000 but less than $25,000 of grant funds—5 points will be awarded.

(9) Size of grant request. Projects utilizing grant funds of: (i) Less than $100,000—25 points will be awarded; (ii) Grant requests of $100,000 to $200,000—15 points will be awarded; or (iii) applications for more than $200,000 but equal to or less than $500,000—10 points will be awarded.

(10) Indirect cost. If the applicant is not requesting grant funds to cover their administrative or indirect costs, 5 points will be awarded.

(11) Discretionary points. The Administrator may assign up to 50 discretionary points to any application that documents the project area was impacted by wildfires through issuance of a Major Disaster Declaration or Fire Management Assistance Declaration by the Federal Emergency Management Agency (FEMA), within four years of the application date. Higher points will be awarded to projects that are located in a federally designated Natural Scenic Area or will create jobs and economic opportunities in an area still suffering economic impacts from the wildfires.

(b) Unfunded applications. The Agency will notify unsuccessful eligible applicants who did not receive funding due to insufficient funds, in writing, that their application will not be funded.

D. Application and Submission Information

1. Address to Request Application Package.

For further information, entities wishing to apply for assistance should contact the USDA Rural Development State Office provided in the ADDRESSES section of this notice to obtain copies of the application package.

Applications may be submitted in paper or electronic format to the appropriate Rural Development State Office and must be received by 4:30 p.m. local time on July 6, 2021. Applicants are encouraged to contact their respective Rural Development State Office for an email contact to submit an electronic application prior to the submission deadline date(s). All applicants must have a Dun and Bradstreet Data Universal Numbering System (DUNS) number which can be obtained at no cost via a toll-free request line at: (866) 705-5711 or at http://fedgov.dnb.com/webform. Each applicant applying for grant funds (unless the applicant is an individual or Federal awarding agency that is excepted from the requirements under 2 CFR 25.110(b) or (c) or has an exception approved by the Federal awarding agency under 2 CFR 25.110(d)) is required to: (i) Be registered in the System for Award Management (SAM) before submitting its application; (ii) provide a valid unique entity identifier in its application; and (iii) continue to maintain an active SAM registration with current information at all times during which it has an active Federal award or an application or plan under consideration by a Federal awarding agency. The Federal awarding agency may not make a Federal award to an applicant until the applicant has complied with all applicable unique entity identifier and SAM requirements and, if an applicant has not fully complied with the requirements by the time the Federal awarding agency is ready to make a Federal award, the Federal awarding agency may determine that the applicant is not qualified to receive a Federal award and use that determination as a basis for making a Federal award to another applicant.

2. Content and Form of Application Submission

An application must contain all of the required elements and be submitted in one package. Each selection priority criterion outlined in 7 CFR 4280.427 must be addressed in the application. Failure to address any of the criterion will result in a zero-point score for that criterion and will impact the overall evaluation of the application. Copies of 7 CFR part 4280, subpart E, will be provided to any interested applicant making a request to a Rural Development State Office. An original copy of the application must be filed with the Rural Development State Office for the State where the project is located. For projects involving multiple states, the application must be filed in the Rural Development State Office where the Applicant is located.

The applicant documentation and forms needed for a complete application are located in the PROGRAM DESCRIPTION section of this notice, and 7 CFR part 4280, subpart E. There are no specific formats required per this notice, and applicants may request forms and addresses from the contacts listed in the ADDRESSES section of this notice. Any form that requires an original signature but is signed electronically in the application submission must be signed in ink by the authorized person prior to the disbursement of funds.

(a) There are no specific limitations on the number of pages or other formatting requirements other than those described in the PROGRAM DESCRIPTION section.

(b) There are no specific limitations on the number of pages, font size and type face, margins, paper size, number of copies, and the sequence or assembly requirements.

(c) The component pieces of this application should contain original signatures on the original application.

3. Submission Dates and Times

(a) Application Deadline Dates: Applications must be submitted to the Rural Development State Office no later than 4:30 p.m. (local time) July 6, 2021.

(b) The deadline date means that the completed application package must be received in the USDA Rural Development State Office by the established deadline date and time. All application documents identified in this notice are required in the submission to be considered a complete application.

(c) The Agency will determine the application receipt date for paper applications based on the actual date postmarked. The date of electronic application submissions will be the date received in the Rural Development State Office by the designated Agency staff person.

(d) If completed applications are not received by the deadline, the application will neither be reviewed nor considered for funding under any circumstances.

(e) Indirect costs will be permitted in accordance with applicable law and in accordance with 2 CFR part 200. Pre-Federal award costs will only be permitted with prior written approval by the Agency.

(f) Applicants may submit applications in hard copy or electronic format as previously indicated in the Application and Submission Information section of this notice. If the applicant wishes to hand deliver its application, the addresses for these deliveries can be located in the ADDRESSES section of this notice.

(g) If you require alternative means of communication for program information (e.g., Braille, large print, audiotape, etc.) please contact USDA's TARGET Center at (202) 720-2600 (voice and TDD).

E. Application Review Information

1. Criteria

All eligible and complete applications will be evaluated and scored based on the selection criteria and weights contained in 7 CFR part 4280, subpart E and in compliance with this notice. Failure to address any one of the criteria by the application deadline will result in the application being determined ineligible, and the application will not be considered for funding.

2. Review and Selection Process

The Rural Development State Offices will review applications to determine if they are eligible for assistance based on applicant and project eligibility requirements contained in 7 CFR parts 4280.416 and 4280.417, respectively, and in this Notice. Funding of projects is subject to the Applicant's satisfactory submission of the items required by 7 CFR part 4280, subpart E and this Notice in addition to any conditions specifically outlined in any issued USDA Rural Development Letter of Conditions if available funds are to be awarded.

Applications will compete at the national level for available funds. Applications will be reviewed, prioritized by score, and funded by ranking each project in highest to lowest score order until available funds are exhausted.

F. Federal Award Administration Information

1. Federal Award Notices

Successful applicants will receive notification for funding from the Rural Development State Office. Applicants must comply with all applicable statutes and regulations before the grant award can be approved and funded.

2. Administrative and National Policy Requirements

Additional requirements that apply to grantees selected for this Program can be found in 7 CFR part 4280, subpart E. Awards are subject to USDA grant regulations at 2 CFR part 400 which incorporated the Office of Management and Budget (OMB) regulation 2 CFR part 200.

All successful applicants will be notified by letter which will include a Letter of Conditions, and a Letter of Intent to Meet Conditions. This letter is not an authorization to begin performance. If the applicant wishes to consider beginning performance prior to the grant being officially closed, all pre-award costs must be approved in writing and in advance by the Agency. The grant will be considered officially awarded when all conditions in the Letter of Conditions have been met and the Agency obligates the funding for the project.

Additional requirements that apply to grantees selected for these Programs can be found in 7 CFR part 4280, subpart E; the Grants and Agreements regulations of the U.S. Department of Agriculture codified in 2 CFR 400.1 to 400.2 and 2 CFR part 415 to 422, and successor regulations to these parts.

In addition, all recipients of Federal financial assistance are required to report information about first-tier sub-awards and executive compensation (see 2 CFR part 170). The applicant will be required to have the necessary processes and systems in place to comply with the Federal Funding Accountability and Transparency Act of 2006 (Pub. L. 109-282) reporting requirements (see 2 CFR 170.200(b), unless exempt under 2 CFR 170.110(b)).

The following additional requirements apply to grantees selected for these Programs:

(a) Form RD 4280-2 “Rural Business-Cooperative Service Financial Assistance Agreement.”

(b) Letter of Conditions.

(c) Form RD 1940-1, “Request for Obligation of Funds.”

(d) Form RD 1942-46, “Letter of Intent to Meet Conditions.”

(e) SF LLL, “Disclosure of Lobbying Activities,” if applicable.

(f) Grantees will use Form SF 270, “Request for Advance or Reimbursement” when requesting grant funds from the Agency.

3. Reporting

(a) A Financial Status Report and a Project Performance Activity Report will be required of all grantees on a quarterly basis until initial funds are expended and yearly thereafter, if applicable, based on the Federal fiscal year. Grantees must continuously monitor performance to ensure that time schedules are being met, projected work by time periods is being accomplished, and other performance objectives are being achieved. Grantees must submit an original of each report to the Agency no later than 30 days after the end of the quarter. The grantee will complete the project within the total time available to it in accordance with the Scope of Work and any necessary modifications thereof prepared by the grantee and approved by the Agency. A final Project Performance Report will be required with the final Financial Status Report. The final report may serve as the last quarterly report. The final report must provide complete information regarding the jobs created and supported as a result of the RBDG grant if applicable. The Project Performance Reports must include, but not be limited to, the following:

(1) A comparison of actual accomplishments to the objectives established for that period.

(2) Problems, delays, or adverse conditions, if any, which have affected or will affect attainment of overall project objectives, prevent meeting time schedules or objectives, or preclude the attainment of particular project work elements during established time periods. This disclosure shall be accompanied by a statement of the action taken or planned to resolve the situation.

(3) Objectives and timetable established for the next reporting period.

(4) Any special reporting requirements, such as jobs supported and created, businesses assisted, or economic development which results in improvements in median household incomes, and any other specific requirements, should be placed in the reporting section of the Letter of Conditions.

(5) Within 90 days after the conclusion of the project, the grantee will provide a final Project Evaluation Report. The last quarterly payment will be withheld until the final report is received and approved by the Agency. Even though the grantee may request reimbursement on a monthly basis, the last 3 months of reimbursements will be withheld until a Final report, Project Performance Report, and Financial Status Report are received and approved by the Agency.

(b) In addition to any reports required by 2 CFR part 200 and 2 CFR 400.1 to 400.2 and 2 CFR part 415 to 422, the grantee must provide reports as required by 7 CFR part 4280, subpart E.

G. Federal Awarding Agency Contact(s)

For general questions about this announcement, please contact your USDA Rural Development State Office provided in the ADDRESSES section of this notice.

H. Civil Rights Requirements

All grants made under this notice are subject to Title VI of the Civil Rights Act of 1964 as required by the USDA (7 CFR part 15, subpart A) and Section 504 of the Rehabilitation Act of 1973, Title VIII of the Civil Rights Act of 1968, Title IX, Executive Order 13166 (Limited English Proficiency), Executive Order 11246, and the Equal Credit Opportunity Act of 1974.

I. Other Information

Paperwork Reduction Act

In accordance with the Paperwork Reduction Act of 1995, the information collection requirement contained in this notice is approved by OMB under OMB Control Number 0570-0070.

Federal Funding Accountability and Transparency Act

All applicants, in accordance with 2 CFR part 25, must have a DUNS number, which can be obtained at no cost via a toll-free request line at (866) 705-5711 or online at http://fedgov.dnb.com/webform. Similarly, all applicants applying for grant funds must be registered in SAM prior to submitting an application. Applicants may register for the SAM at http://www.sam.gov/SAM. All recipients of Federal financial grant assistance are required to report information about first-tier sub-awards and executive total compensation in accordance with 2 CFR part 170.

Nondiscrimination Statement

In accordance with Federal civil rights law and U.S. Department of Agriculture (USDA) civil rights regulations and policies, the USDA, its agencies, offices, and employees, and institutions participating in or administering USDA Programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at https://www.usda.gov/oascr/how-to-file-a-program-discrimination-complaint and at any USDA office or write a letter addressed to USDA and provide in the letter all of the information requested in the form. To request a copy of the complaint form, call (866) 632-9992.Submit your completed form or letter to USDA by:—

(1) Mail: U.S. Department of Agriculture, Office of the Assistant Secretary for Civil Rights, 1400 Independence Avenue SW, Washington, DC 20250-9410; or

(2) Email: OAC@usda.gov.

USDA is an equal opportunity provider, employer, and lender.

Mark Brodziski,
Acting Administrator, Rural Business-Cooperative Service.

[FR Doc. 2021-10620 Filed 5-19-21; 8:45 am]

BILLING CODE 3410-XY-P